SMALL BUSINESS ADMINISTRATION

Washington, D.C. District Advisory Council; Public Meeting

The U.S. Small Business Administration Washington, D.C. District Advisory Council, located in the metropolitan area of Washington, D.C., will hold a public meeting from 9:00 a.m.-11:00 a.m., Wednesday, April 26, 2000, at Creative Associates, Inc., 5301 Wisconsin Avenue, N.W., Suite 700, Washington, D.C., to discuss such matters as may be presented by members, staff of the U.S. Small Business Administration, or others present.

For further information, write or call Anita L. Irving, Public Information Officer, U.S. Small Business Administration, 1110 Vermont Avenue, N.W., Suite 900, (P.O. Box 34500), Washington, DC 20043-4500; telephone 202-606-4000, ext. 275.

Bettie Baca,
Counselor to the Administrator/Public Liaison.

[FR Doc. 00-6696 Filed 3-16-00; 8:45 am]

BILLING CODE 8025-01-P